DEPARTMENT OF HEALTH AND HUMAN SERVICES

Agency for Healthcare Research and Quality

Agency Information Collection Activities: Proposed Collection; Comment Request

AGENCY: Agency for Healthcare Research and Quality, Department of Health and Human Services.

ACTION: Notice.

SUMMARY: This notice announces the intention of the Agency for Healthcare Research and Quality (AHRQ) to request that the Office of Management and Budget (OMB) allow the renewal of the generic information collection project: “Voluntary Customer Surveys Generic Clearance for the Agency for Healthcare Research and Quality” In accordance with the Paperwork Reduction Act of 1995, Public Law 104-13 (44 U.S.C. 3506(c)(2)(A)), AHRQ invites the public to comment on this proposed information collection.

DATES: Comments on this notice must be received by October 2, 2007.

ADDRESSES: Written comments should be submitted to: Doris Lefkowitz, Reports Clearance Officer, AHRQ, 540 Gaither Road, Room # 5036, Rockville, MD 20850, or by e-mail at doris.lefkowitz@ahrq.hhs.gov.

Copies of the proposed collection plans, data collection instruments, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

“Voluntary Customer Surveys Generic Clearance for the Agency for Healthcare Research and Quality”

In response to Executive Order 12962, the Agency for Healthcare Research and Quality (AHRQ) plans to conduct voluntary customer surveys to assess strengths and weaknesses in agency program services. Customer surveys to be conducted by AHRQ may include readership surveys from individuals using AHRQ automated and electronic technology databases to determine satisfaction with the information provided or surveys to assess effect of the grants streamlining efforts. Results of these surveys will be used in future program planning initiatives and to redirect resources and efforts, as needed, to improve AHRQ program services. The current clearance will expire January 31, 2008. This is a request for a generic approval from OMB to conduct customer surveys over the next three years.

Methods of Collection

The data will be collected using a combination of methodologies appropriate to each survey. These methodologies include:

• Evaluation forms;

• Mail surveys;

• Focus groups;

• Automated and electronic technology (e.g., e-mail, Web-based surveys, instant fax, AHRQ Publication Clearinghouse customer feedback) and,

• Telephone surveys.

Estimated Annual Respondent Burden
Type of Survey | No. of respondents | Average hour burden/response | Total hours of burden
Mail/Telephone Surveys | 51,200 | 0.15 | 7,680
Automated/Web-based | 52,000 | 0.163 | 8,476
Focus Groups | 200 | 1.0 | 200
Totals | 103,400 | NA | 16,356

This information collection will not impose a cost burden on the respondents beyond that associated with their time to provide the required data. There will be no additional costs for capital equipment, software, computer services, etc.

Estimated Annual Costs to the Federal Government

The mail and telephone surveys and focus groups will in some cases be carried out under contract. Assuming the contract cost per survey is $50,000-$100,000, and for each focus group is $20,000, total contract costs could be $720,000 per year.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: July 30, 2007.
Carolyn M. Clancy,
Director.

[FR Doc. 07-3813 Filed 8-2-07; 8:45 am]

BILLING CODE 4160-90-M